DEPARTMENT OF VETERANS AFFAIRS

Fund Availability Under VA's Homeless Providers Grant and Per Diem Program

AGENCY: Department of Veterans Affairs.

ACTION: Notice.

SUMMARY: The Department of Veterans Affairs (VA) is announcing the availability of funds for currently operational fiscal year (FY) 2009 VA Grant and Per Diem Special Need Grant Recipients in conjunction with their collaborative VA Special Need partners and currently operational VA Grant and Per Diem Special Need Grant Recipients not involved with collaborative VA partners. All current VA Grant and Per Diem Special Need Grant recipients will have the opportunity to reapply for assistance under the Special Need Grant Component of VA's Homeless Providers Grant and Per Diem Program. The focus of this Notice of Funding Availability (NOFA) is to encourage applicants to continue to deliver services to the homeless Special Need veteran population as outlined in their FY 2009 Special Need grant application. This Notice contains information concerning the program, application process, and amount of funding available.

DATES: An original signed and dated request for re-application letter (on agency letterhead) for assistance under the VA's Homeless Providers Grant and Per Diem Program must be received in the Grant and Per Diem Program Office, by 4 p.m. Eastern Time on Thursday, August 25, 2011 (see re-application requirements below). Requests for re-application may not be sent by facsimile (Fax). In the interest of fairness to all competing applicants, this deadline is firm as to date and hour, and VA will treat as ineligible for consideration any request for re-application that is received after the deadline. Applicants should take this practice into account and make early submission of their material to avoid any risk of loss of eligibility brought about by unanticipated delays or other delivery-related problems.

For a Copy of the Application Package: An application package is not needed for this NOFA. Applicants submitting a letter on their agency's letterhead requesting re-application agree that VA shall use the applicant's previously awarded FY 2009 Special Need grant application for scoring purposes (see re-application requirements in this NOFA).

Submission of Application: An original and complete letter requesting re-application with project number (see re-application requirements in this NOFA) must be submitted to the following address: VA's Homeless Providers Grant and Per Diem Program Office, 10770 North 46th Street, Suite C-200, Tampa, Florida 33617. Letters of re-application must be received in the Grant and Per Diem Program office by the re-application deadline. Any additional materials arriving separately will not be included in the re-application package for consideration.

FOR FURTHER INFORMATION CONTACT: Ms. Chelsea Watson, Deputy Director, VA's Homeless Providers Grant and Per Diem Program, Department of Veterans Affairs, 10770 North 46th Street, Suite C-200, Tampa, Florida 33617; (toll-free) (877) 332-0334.

SUPPLEMENTARY INFORMATION: This Notice announces the availability of funds for assistance under VA's Homeless Providers Grant and Per Diem Program for FY 2009 operational Grant and Per Diem Special Need grant recipients and their collaborative VA partners to obtain grant assistance with additional operational costs that would not otherwise be incurred but for the fact that the recipient is providing supportive housing beds and services for the Special Needs of the centers for the following homeless veteran populations:

Women, including women who have care of minor dependents;

Frail elderly;

Terminally ill; or

Chronically mentally ill.

Definitions of women and women who have care of minor dependents are self-defining. The population definitions of frail elderly, terminally ill, and chronically mentally ill are contained in 38 CFR 61.1 Definitions. Eligible applicants should review these definitions to ensure their proposed populations meet the specific requirements.

VA is pleased to issue this NOFA for the VA's Homeless Providers Grant and Per Diem Program as a part of the effort to end homelessness among our nation's veterans. Funding applied for under this Notice may be used for: The provision of service, operation, or personnel to facilitate the following with regard to the targeted group:

Women, Including Women Who Have Care of Minor Dependents

(1) Ensure transportation for women and their children, especially for health care and educational needs;

(2) Provide directly or offer referrals for adequate and safe child care;

(3) Ensure children's health care needs are met, especially age appropriate wellness visits and immunizations; and

(4) Address safety and security issues including segregation procedures from other program participants if deemed appropriate.

Frail Elderly

(1) Ensure the safety of the residents in the facility to include preventing harm and exploitation;

(2) Ensure opportunities to keep residents mentally and physically agile to the fullest extent through the incorporation of structured activities, physical activity, and plans for social engagement within the program and in the community;

(3) Provide opportunities for participants to address life transitional issues and separation and/or loss issues;

(4) Provide access to assistance devices such as walkers, grippers, or other devices necessary for optimal functioning;

(5) Ensure adequate supervision, including supervision of medication and monitoring of medication compliance; and

(6) Provide opportunities for participants either directly or through referral for other services particularly relevant for the frail elderly, including services or programs addressing emotional, social, spiritual, and generative needs.

Terminally Ill

(1) Help participants address life-transition and life-end issues;

(2) Ensure that participants are afforded timely access to hospice services;

(3) Provide opportunities for participants to engage in “tasks of dying,” or activities of “getting things in order” or other therapeutic actions that help resolve end of life issues and enable transition and closure;

(4) Ensure adequate supervision including supervision of medication and monitoring of medication compliance; and

(5) Provide opportunities for participants either directly or through referral for other services particularly relevant for terminally ill such as legal counsel and pain management.

Chronically Mentally Ill

(1) Help participants join in and engage with the community;

(2) Facilitate reintegration with the community and provide services that may optimize reintegration such as life-skills education, recreational activities, and follow up case management;

(3) Ensure that participants have opportunities and services for re-establishing relationships with family;

(4) Ensure adequate supervision, including supervision of medication and monitoring of medication compliance; and

(5) Provide opportunities for participants, either directly or through referral, to obtain other services particularly relevant for a chronically mentally ill population, such as vocational development, benefits management, fiduciary or money management services, medication compliance, and medication education.

Through this NOFA, VA seeks to renew the FY 2009 previous grant and per diem Special Need providers and their VA collaborative partners in order to continue serving the Special Need veteran populations.

No part of a Special Need grant may be used for any purpose that would significantly change the scope of the specific grant and per diem project for which a capital grant and per diem was awarded. As a part of the review process, VA will review the original project and subsequent approved program changes of the previous FY 2009 Special Need applications to ensure significant scope changes have not occurred thereby displacing other homeless veteran populations. VA will not allow any changes under this renewal NOFA.

Special Need funding may not be used for capital improvements or to purchase vans or real property. However, the leasing of vans or real property may be acceptable. Questions regarding acceptability should be directed to VA's Grant and Per Diem Program Office at (877) 332-0334. Applicants may not receive Special Need Assistance to replace funds provided by any Federal, state or local government agency or program to assist homeless persons.

Authority: Funding applied for under this Notice is authorized by the “Homeless Veterans Comprehensive Assistance Act of 2001,” Public Law 107-95, § 5, codified as amended at title 38 U.S.C. 2011, 2012, 2013, 2061, 2064. The program is implemented by the Final Rule codified at 38 CFR part 61.0. The regulations can be found in their entirety in 38 CFR, Sec. 61.0 through 61.82. Funds made available under this Notice are subject to the requirements of those regulations.

Allocation: Approximately $11 million is available for current Grant and Per Diem Special Need grant projects. Funding will be for a period beginning on October 1, 2011 and ending on September 30, 2013. Applicants are limited to a maximum award equal to their FY 2009 Special Need award plus a 5-percent increase. For example: $100,000 award in FY 2009 would be $100,000 plus 5 percent or $105,000. Applicants should ensure their funding requests are based on this 24-month period and should be approximately in line with prior expenditures. Based on Grant and Per Diem funding availability, approximately, $8 million is expected to be made available over the specified time (internally) for the current VA collaborative partners. The maximum award to each VA collaborative partner will follow the same methodology; limited to a maximum award equal to their FY 2009 Special Need award plus a 5-percent increase.

The goal of this Notice is to ensure a continuation of Special Need services to homeless veterans and their VA collaborative partners.

It is important to be aware that VA places great emphasis on responsibility and accountability. VA has procedures in place to monitor services provided to homeless veterans and outcomes associated with the services provided in grant and per diem-funded programs. Applicants should be aware of the following:

Potential applicants should take into consideration, “Grant recipients that concurrently receive Special Needs and per diem payments shall not be paid more than 100 percent of the cost for the bed per day, product, operation, personnel, or service provided” (38 CFR 61.61(h)). Further, VA per diem payment is limited to the applicant's cost of care per eligible veteran minus other sources of payments to the applicant for furnishing services to homeless veterans up to the per day rate VA pays for State Home Domiciliary care. Awardees will be required to support their request for Special Needs and per diem payments with adequate fiscal documentation as to program income and expenses.

All awardees that are selected in response to this NOFA must meet the requirements of the current edition of the Life Safety Code of the National Fire Protection Association as it relates to their specific facility. Applicants should note that all facilities are to be protected throughout by an approved automatic sprinkler system unless a facility is specifically exempted under the Life Safety Code. Applicants should make consideration of this when submitting their grant applications as no additional funds will be made available for capital improvements under this NOFA.

Each grant awardee will have the VA liaison that was appointed for its corresponding grant and per diem program monitor services to ensure the Special Need grant is being met and will include at least an annual review of each program's progress toward meeting internal goals and objectives in helping the Special Need homeless veterans as identified in each applicant's original Special Need application. Monitoring for all participants will include a review of the agency's income and expenses as they relate to this project to ensure per diem and Special Need payments are accurate.

VA will monitor the homeless Special Need participants and services provided by GPD recipients according to appropriate VA procedure. These monitoring procedures will be used to determine successful accomplishment of outcomes for each collaborative partnership.

Funding Priorities: None.

Agreement and Funding Actions: Conditionally selected applicants will complete a funding agreement with VA in accordance with 38 CFR 61.61 and provide any additional information as required by VA. Upon signature by the Secretary or designated representative, final selection will be completed.

Funding for operational grant and per diem applicants that are finally selected will not exceed the period specified in this NOFA. A condition to obtain the Special Need Grant is for the applicant to maintain the original (grant or per diem) program for which the Special Need grant is sought.

Re-Application Requirements and Additional Information: A separate request for renewal letter is needed for each project number for which you are requesting Special Need Funding. In addition, current Special Need recipients should also list their Special Need Project number. A project number is the last two digits of the year funded, the sequence the application was received, and the state abbreviation for the project location, (i.e., 09-325-MA would have been funded in the year 2009, the 325th application received, and located in Massachusetts). If you do not know your project number. please call VA's Grant and Per Diem Program Office at (877) 332-0334.

The grant application requirements were specified and met in the original application package and need not be provided as the applicant agrees that, as a condition of funding under this NOFA, the grant recipient's FY 2009 Special Need grant application will be used.

The following additional information is required by this NOFA. The renewal request must include:

a. A letter from the renewal applicant on agency signed letterhead, stating the applicant agrees to the following: (1) That, as a condition of funding under this NOFA, the grant recipient's FY 2009 Special Need grant application will be used, (2) that the applicant will provide the services as outlined in the FY 2009 Special Need grant application, and (3) the applicant's FY 2009 required forms and certifications still apply for the period of this award.

b. If the FY 2009 Special Need grant was a collaborative project the renewal request must include an updated letter of commitment or an updated Memorandum of Agreement (MOA) from the VA collaborative partner, stating that the VA will continue to meet its objectives or provide its duties as outlined in the original MOA in FY 2009.

c. A complete new budget for the renewal applicant and collaborative partner with costs based on past costs incurred and the funding limitation of 100 percent of their 2009 award plus 5 percent per each Special Need FY 2009 grant as stated in this NOFA. Renewal applicants should take into consideration the 24 month period of award when calculating and submitting their budget for this NOFA.

d. A complete new budget for the VA collaborative partner with costs based on past costs incurred and the funding limitation of 100 percent of their 2009 award plus 5 percent per each Special Need FY 2009 grant as stated in this NOFA. VA partners should take into consideration the 24 month period of award when calculating and submitting their budget for this NOFA (if there is no collaborative partner then only an applicant budget is needed).

Applicants having questions with regard to the funding from previous Special Need awards should contact the Grant and Per Diem Program Office prior to application for this NOFA.

Selections will be made based on criteria described in the FY 2009 application and additional information as specified in this NOFA.

Applicants who are selected will be notified of any additional information needed to confirm or clarify information provided in the application. Applicants will then be notified of the deadline to submit such information. If an applicant is unable to meet any conditions for grant award within the specified time frame, VA reserves the right to not award funds and to use the funds available for other grant and per diem applicants.

Dated: August 1, 2011.
John R. Gingrich,
Chief of Staff, Department of Veterans Affairs.

[FR Doc. 2011-19948 Filed 8-5-11; 8:45 am]

BILLING CODE P